DEPARTMENT OF HEALTH AND HUMAN SERVICES

National Institutes of Health

National Cancer Institute; Amended Notice of Meeting

Notice is hereby given of a change in the meeting of the National Cancer Institute Initial Review Group TEP-3: SBIR Contract Review, February 6, 2020, 10:00 a.m. to 6:00 p.m., National Cancer Institute Shady Grove, 9609 Medical Center Drive, Room 5E030, Rockville, MD 20850 (Telephone Conference Call) which was published in the Federal Register on December 10, 2019, 84 FR 67467.

This meeting notice is amended to correct the meeting name from National Cancer Institute Initial Review Group TEP-3: SBIR Contract Review to National Cancer Institute Special Emphasis Panel TEP-3: SBIR Contract Review. The meeting is closed to the public.

Dated: December 12, 2019.
Melanie J. Pantoja,
Program Analyst, Office of Federal Advisory Committee Policy.

[FR Doc. 2019-27185 Filed 12-17-19; 8:45 am]

BILLING CODE 4140-01-P